DEPARTMENT OF AGRICULTURE

Forest Service

Angeles National Forest, California, Cattle Canyon Improvements Project

AGENCY: Forest Service, USDA.

ACTION: Notice of intent to prepare draft environmental impact statement/environmental impact report and public scoping meeting.

SUMMARY: The Angeles National Forest (USFS-ANF) and the Watershed Conservation Authority WCA are lead agencies preparing a joint Draft Environmental Impact Statement (EIS)/Environmental Impact Report (EIR), pursuant to the National Environmental Policy Act (NEPA), the California Environmental Quality Act (CEQA), the Endangered Species Act, and other applicable laws, to evaluate the San Gabriel River Confluence with Cattle Canyon Improvements Project (Project). The USFS-ANF and the WCA have agreed to jointly prepare an EIS/EIR in order to optimize efficiency and avoid duplication. The EIS/EIR is intended to be sufficient in scope to address the federal, state, and local requirements and the environmental issues concerning the proposed activities and permit approvals. The Project was developed to better manage the recreation use and balance the needs for resource protection. The project site encompasses an approximate 2.5-mile reach of the East Fork of the San Gabriel River, running generally south until its confluence with Cattle Canyon Creek in Los Angeles County: T2N R8W Sections 19 and 30, T2N R9W Sections 24, 25, 26, T3N R8W Section 18. The entire project site is within the San Gabriel Mountains National Monument boundary and will continue to be managed by the USFS-ANF. The proposed actions are to develop new management strategies to protect and restore the multi-use areas for future public enjoyment. Proposed enhancements include establishment of parking spaces, development of new picnic areas, pedestrian trails, river access points and upgrades to existing facilities, improvements to paved and unpaved roadways, and restoration of riparian and upland vegetation communities.

DATES: Comments concerning the scope of the analysis must be received by December 1, 2016.

Two public scoping meetings are being held to provide you with an opportunity to learn more about the proposed action and to express comments on the proposed action and scope of the EIS/EIR. The scoping meetings will be held Wednesday, November 16, 2016, from 6:00 p.m. to 8:30 p.m., and Saturday, November 19, 2016, from 11:00 a.m. to 1:30 p.m.

ADDRESSES: Please send written scoping comments to: Cattle Canyon Improvements Project, 110 N. Wabash Ave., Glendora, CA 91741. Comments may also be sent via email to comments-pacificsouthwest-angeles@fs.fed.us, or via facsimile to (626) 574-5233. If applicable, responses should include the name of a contact person at your agency or organization.

The scoping meetings will be held at the following locations:

Wednesday, November 16, 2016, 6:00 p.m. to 8:30 p.m., Julia McNeill Senior Center—Celebration Hall, 4100 Baldwin Park Boulevard, Baldwin Park, California

Saturday, November 19, 2016, 11:00 a.m. to 1:30 p.m., Angeles National Forest Headquarters, 701 North Santa Anita Avenue, Arcadia, California

Additional information about public meetings is posted on: http://www.fs.usda.gov/projects/angeles/landmanagement/projects and http://www.wca.ca.gov/cattle_canyon.

FOR FURTHER INFORMATION CONTACT:

USDA Forest Service, Angeles National Forest, 110 N. Wabash Ave., Glendora, CA 91741, Contact: Jeremy Sugden, Phone: (626) 335-1251 x222, Email: jmsugden@fs.fed.us

Watershed Conservation Authority, 100 N. Old San Gabriel Canyon Road, Azusa, CA 91701, Contact: Rob Romanek, Phone: (626) 815-1019 x108, Email: rromanek@wca.ca.gov

Individuals who use telecommunication devices for the deaf (TDD) may call the Federal Information Relay Service (FIRS) at 1-800-877-8339 between 8 a.m. and 8 p.m., Eastern Time, Monday through Friday.

SUPPLEMENTARY INFORMATION:

Purpose and Need for Action

Due to steep topography and dense chaparral, recreation is highly concentrated in areas that are relatively flat with roaded access in ANF. The heavy use combined with the lack of facilities has resulted in the degradation within the project site. Current conditions are not sustainable for long-term management. The San Gabriel River Confluence with the Cattle Canyon Improvement Project is being proposed to better manage the recreation use and balance the needs for resource protection. The future desired condition is to provide balanced, environmentally sustainable recreation opportunities to meet the needs of a growing urban and culturally diverse population, particularly for day use.

The purpose and need for the project is to provide recreation facilities and infrastructure that are high quality, well-maintained, safe, accessible and consistent with visitors' expectations; shift and concentrate recreational use to certain areas in order to minimize adverse effects over a broader area; promote stewardship of public land by providing quality and sustainable recreation opportunities that result in increased visitor satisfaction; allow for better management of the recreation resources on the Forest; and improve riparian habitat conditions in certain areas and make progress toward enhancing stream habitat conditions by restoring vegetation, minimizing invasive plants and noxious weed presence, and developing management strategies to regulate access.

Proposed Action

The full description of the proposed action/project is on the following Web sites:

http://www.fs.usda.gov/projects/angeles/landmanagement/projects

http://www.wca.ca.gov/cattle_canyon

Proposed actions/project include the following components:

River Access

To provide better public access to the river while protecting natural resources, a total of six locations for river access points are proposed throughout the project site. Each river access point would implement the Sustainable Site Access Model and include: Parking, infrastructure to provide for potential development of future shuttle services, litter disposal, restrooms, picnic tables and seating, East Fork Scenic Trail with interpretive elements, safe river access trails, and elimination of user-created trails and parking.

Riparian and Upland Habitat Restoration

Restoration would occur throughout the project site to reduce impacts from user generated trails, protect seeps/springs on east side of the road, preserve stream habitat in tributary behind oaks picnic area, and mitigate losses from trail construction. Restoration would include non-native vegetation removal and/or riparian plantings.

Parking

The project proposes a total of 270 new parking spaces designated for standard vehicles and three spaces for bus parking within the vicinity of the Oaks Picnic Area and Coyote Flat. Of the 270 parking spaces, 14 spaces would be designed and designated as accessible spaces. These spaces include angled and perpendicular bays with curbs, formal (marked) paved roadside parking, and a paved parking lot at the former fire station within the East Fork Scenic Overlook and Trailhead area. Parking would be available during day-use hours. Undesignated parking areas would be blocked by boulders and parking signage installed.

Right of Way Improvements

Improvements along the two-mile reach of the public right of way would include designated roadside parking, the addition of three loading area/shuttle stops, low barrier walls, signage, and a vehicle turnaround at the end of Camp Bonita Road.

Amenities

Proposed actions include development of the following amenities:

• Recreational Trails: Recreational trail improvements would include the following: The 2.5 mile East Fork Scenic Trail (comprising two miles of newly constructed road-adjacent scenic trail and .5 miles of improvements to existing trail/access road that runs between the East Fork Overlook area and Heaton Flat), Botanical Interpretive Trail (approximately 1.5 miles of existing non designated trail), Trail steps to Coyote Flat (approximately 350 feet), five trailheads, and a trailhead parking lot.

• Interpretive Areas: An interpretive area with site-specific signage and informational displays would be located at the Oaks, Confluence, Coyote Flat, and Heaton Flat Areas.

• Scenic Overlooks: The existing scenic overlook of the EFSGR in the Overlook Area would be improved with planters, Geology Hut, low masonry barrier walls, litter receptacles, and interpretive signs. A new scenic overlook in the Confluence Area would include an interpretive element of Eldoradoville, and an East Fork Scenic Trail interpretive sign.

• Picnic Areas: Six designated picnic areas would be located throughout the project area. Improvements are planned for the existing picnic areas at Oaks, Coyote Flat, and Heaton Flat.

• Pedestrian Bridge: A prefabricated pedestrian steel bridge may be constructed across the Cattle Canyon Creek, parallel to the existing L.A. County Camp Bonita Road Bridge (also known as Cattle Canyon Bridge).

• USFS Visitor Kiosk: Three USFS Visitor Kiosks would be strategically placed throughout the project site.

• Restrooms and Refuse Disposal: Nine restroom facilities are planned with three 2-toilet units and six 4-unit toilet facilities located near river access points, picnic areas and other popular destination sites. Small bear-proof trash receptacles would be located at all river access points, loading areas/shuttle stops, parking areas, along the East Fork Scenic trail, and all designated picnic sites.

Site Type Management

The project area is being proposed to be managed as a Day Use only area. Currently recreation sites located within the project area (Oaks Picnic Site and East Fork Trailhead Day Use Parking) are managed as Standard Amenity Recreation Fee Sites (SARF). With the development of the project new recreation sites will be eligible to be included into the SARF program. These new sites may be designated for fee collection after the project is constructed, in accordance with the Federal Lands Recreation Enhancement Act, including necessary approvals of the Recreation Advisory Committee established by that law.

Possible Alternatives

In order to address substantive issues identified during scoping, project alternatives may be considered and developed by lead agencies staff, following completion of the public scoping period. If necessary, the alternatives shall fulfill the identified purpose & need for action while addressing one or more significant issues related to the proposed project.

Preliminary Issues/Potential Environmental Effects

Potential environmental effects and impacts for the proposed project and the alternatives will be explored during the scoping and during preparation of the EIS/EIR. The EIS/EIR will focus on issues for which potentially significant impacts are identified, including: Public recreation and impacts to user groups, biological resources, cultural resources, transportation and parking, water resources and water quality, and others. In addition, the EIS/EIR will analyze the full range of resource topics required by the lead agencies (e.g., noise, land use) and cumulative impacts.

Permits or Licenses Required

Permits that may be required before implementation include: A National Pollutant Discharge Elimination System General Construction Permit issued by the Los Angeles Regional Water Quality Control Board, a Section 404 Permit and Section 401 Certification (per the Clean Water Act) issued by the U.S. Army Corps of Engineers, Biological Opinion/Incidental Take Statement issued by USFWS, Section 2081 Incidental Take Permit issued by the California Department of Fish and Wildlife, and a Streambed Alteration Agreement (Section 1602 permits of the California Fish and Game Code) issued by the California Department of Fish and Wildlife. Local traffic control and encroachment permits may be required from the Los Angeles County Department of Public Works or the California Department of Transportation.

Scoping Process

The ANF and the WCA are seeking public and agency comment on the proposed project to identify major issues. Comments received will help define the scope of the project and issues to be analyzed in depth. Comments should be as “project specific” as possible. It is important that reviewers provide their comments at such times and in such a manner that they are useful to the agency's preparation of the environmental impact statement. Therefore, comments should be provided prior to the close of the scoping comment period and should clearly articulate the reviewer's concerns and contentions in relation to the project. Reviewers may wish to refer to the Council on Environmental Quality Regulations for implementing the procedural provisions of NEPA (40 CFR 1503.3) in addressing these points.

The proposed project is consistent with the 2006 Angeles National Forest Land Management Plan, and is subject to project level, pre-decisional administrative review pursuant to 36 CFR 218, Subparts A and B. Comments received on this notice or in subsequent environmental reviews, including names and addresses of those who comment, will be considered as part of the public record on this proposed project, and are subject to the Freedom of Information Act (FOIA) and California Public Records Act (CPRA). Comments submitted anonymously will be accepted and considered; however, those who submit anonymous comments will not have standing to object to the subsequent decision.

Dated: October 7, 2016.
Rachel C. Smith,
Deputy Forest Supervisor, Angeles National Forest.

[FR Doc. 2016-25007 Filed 10-14-16; 8:45 am]

BILLING CODE 3411-15-P